DEPARTMENT OF ENERGY

Federal Energy Regulatory Commission

[Project Nos. P-2281-011, P-4851-005]

Pacific Gas and Electric Company; Notice of Scoping Meetings and Site Visit and Soliciting Scoping Comments

May 17, 2007.

Take notice that the following two hydroelectric applications have been filed with Commission and are available for public inspection:

a. Type of Application: New Major Licenses.

b. Project Nos: P-2281-011, P-4851-005.

c. Date Filed: March 30, 2007.

d. Applicant: Pacific Gas and Electric Company.

e. Name of Project: Woodleaf-Kanaka Junction Transmission Line Project (P-2281-011) Sly Creek Transmission Line Project (P-4851-005).

f. Location: The two projects are located in Butte County California, within the South Fork Feather River watershed. The projects are not located within any designated cities, towns, subdivisions or Indian Tribe reservations. The projects are located about 15 miles east of Oroville, California. The Woodleaf-Kanaka Junction Transmission Line Project affects 31.79 acres of federal lands that is administered by the Plumas National Forest. The Sly Creek Transmission Line Project affects less than 2 acres of federal lands administered by the Plumas National Forest.

g. Filed Pursuant to: Federal Power Act 16 U.S.C. 791(a)-825(r).

h. Applicant Contact: Forrest Sullivan, Senior Project Manger, Pacific Gas & Electric Company, 5555 Florin-Perkins Road, Building 500, Sacramento, CA, 95826. Tel: (916) 386-5580.

i. FERC Contact: John Mudre, (202) 502-8902, or john.mudre@ferc.gov.

j. Deadline for filing scoping comments: July 16, 2007.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. The applications are not ready for environmental analysis at this time.

l. The Woodleaf-Kanaka Junction Transmission Line Project is a transmission line only project that transmits electricity 6.2 miles from the Woodleaf Powerhouse (owned and operated by the South Feather Water and Power Agency under FERC Project No. 2088) to the Kanaka Junction. The Project also includes a 0.02-mile long tap line extending to Forbestown Powerhouse (also under FERC Project No. 2088). The Woodleaf-Kanaka Junction Transmission Line is composed of a single-circuit, 115-kV transmission line, supported primarily on wood-pole, H-frame towers within a 75-foot wide right-of-way. The project is linked to the Licensee's Sly Creek Transmission Line (FERC License No. 4851), via the Woodleaf Powerhouse Switchyard, a component of FERC Project No. 2088.

The Sly Creek Transmission Line Project is a transmission line only project that transmits electricity 5.4 miles from the Sly Creek Powerhouse (owned and operated by the South Feather Water and Power Agency under FERC Project No. 2088) to Pacific Gas and Electric Company's Woodleaf-Kanaka Junction Transmission Line Project (FERC Project No. 2281). The transmission line Project consists of an existing single-circuit, 115 kV transmission line, supported primarily on wood-pole, H-frame structures within a 75-foot-wide right-of-way, and appurtenant facilities.

m. Copies of both applications are available for review at the Commission in the Public Reference Room or may be viewed on the Commission's Web site at http://www.ferc.gov using the “eLibrary” link. Enter the docket number excluding the last three digits in the docket number field to access the documents. For assistance, contact FERC Online Support at FERCOnlineSupport@ferc.gov or toll-free at 1-866-208-3676, or for TTY, (202) 502-8659.

Copies are also available for inspection and reproduction at the address in item h above.

You may also register online at http://www.ferc.gov/docs-filing/esubscription.asp to be notified via e-mail of new filings and issuances related to these or other pending projects. For assistance, contact FERC Online Support.

n. Scoping Process:

The Commission intends to prepare a joint Environmental assessment (EA) for the projects in accordance with the National Environmental Policy Act. The multi-project EA will consider both site-specific and cumulative environmental impacts and reasonable alternatives to the proposed actions.

Scoping Meetings

FERC staff will conduct one agency scoping meeting and one public meeting, in conjunction with scoping for the South Feather Power Project. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: June 14, 2007.

Time: 10 a.m. (PST).

Place: VFW Post #1747.

Address: 1901 Elgin St., Oroville, CA.

Public Scoping Meeting

Date: June 13, 2007.

Time: 7 p.m. (PST).

Place: VFW Post #1747.

Address: 1901 Elgin St., Oroville, CA.

Copies of the Scoping Document (SD1) outlining the subject areas to be addressed in the EA are being distributed to the parties on the Commission's mailing list under separate cover. Commission's mailing list. Copies of the SD1 will be available at the scoping meeting or may be viewed on the Web at http://www.ferc.gov using the “eLibrary” link (see item m above).

Site Visit

We also will conduct a two-day site visit to the project facilities on Tuesday, June 12, 2007, and Wednesday June 13, 2007, in conjunction with a site visit of the South Feather Power Project. On both days we will meet at the South Feather Water and Power Agency's Forbestown Office, 5494 Forbestown Rd, Forbestown, CA at 7:30 a.m. All participants are responsible for their own transportation on the site visits and will need to provide their own lunch.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Kimberly D. Bose,
Secretary.

[FR Doc. E7-10001 Filed 5-23-07; 8:45 am]

BILLING CODE 6717-01-P